DEPARTMENT OF THE INTERIOR

Fish and Wildlife Service

Adoption and Notice of Availability of a Final Environmental Impact Statement (EIS) on the Anacapa Island Restoration Project

AGENCY: Fish and Wildlife Service, Interior.

ACTION: Notice of availability.

SUMMARY: This notice advises the public that the U.S. Fish and Wildlife Service is adopting the National Park Service (NPS) Final Environmental Impact Statement (FEIS) on the Anacapa Island Restoration Project in support of a special purpose migratory bird permit application submitted by NPS. Copies of the adopted FEIS are available from the National Park Service (http://www.nps.gov/chris/naturalresources/AIRP.html) or U.S. Fish and Wildlife Service (address below). Preparation of the Record of Decision will begin no sooner than 30 days from this notice.

ADDRESSES: Questions should be addressed to Brad Bortner, Chief, Division of Migratory Birds and Habitat Programs, U.S. Fish and Wildlife Service, 911 NE 11th Avenue, Portland, OR 97232-4181 (503-231-6164).

SUPPLEMENTARY INFORMATION:

Document Availability

Copies of the final Environmental Impact Statement are available at the following government offices and library:

The FEIS is available at Park Headquarters, Superintendent, Channel Islands National Park, 1901 Spinnaker Dr., Ventura, California 93001 (or via telephone at (805) 658-5700); on the Park's Web site (http:www.nps.gov/chris/naturalresources/AIRP.html); and at Fosters Library, Ventura, California.

A. Background

Pursuant to the National Environmental Policy Act (NEPA), the National Park Service prepared a Final Environmental Impact Statement (FEIS) assessing the benefits to migratory birds and other natural resource values and the potential impacts of eradicating the Black rat on Anacapa Island. This notice of availability of the FEIS was originally published in a Federal Register Notice dated October 12, 2000. Subsequently, the National Park Service applied for a special purpose migratory bird permit (50 CFR 21.27) to take birds during eradication of the rats.

The U.S. Fish and Wildlife Service (Service) in accordance with 40 CFR 1506.3 and the Amended Memorandum Opinion (The Fund for Animals v. Fran Mainella, USDCDC, Civil Action No. 01-2288 [ESH], dated November 29, 2001) is adopting and recirculating the FEIS.

The FEIS presents alternatives and analyzes the anticipated effects of implementing proposed actions to accomplish the following objectives: (1) Eradicating introduced Black rats on Anacapa Island; (2) adopting an emergency response plan for accidental introductions of rodents on Anacapa, Santa Barbara, Prince, and Sutil Islands; and (3) incorporating a prevention strategy to reduce the potential for rodents to be accidentally introduced to these islands of Channel Islands National Park. The proposed action was developed in concert with the Island Conservation and Ecology Group and is based on worldwide evaluation of other island rat eradication projects. Actions to eradicate existing and prevent potential Black rat infestations are necessary because of the ecological damage occurring on Anacapa Island, the benefit this action would have for migratory birds, and the potential negative impact they would have if introduced to other islands in Channel Islands National Park.

Dated: March 7, 2002.
Rowan W. Gould,
Acting Regional Director, Region 1, Portland, Oregon.

[FR Doc. 02-8126 Filed 4-3-02; 8:45 am]

BILLING CODE 4310-55-P